DEPARTMENT OF HOMELAND SECURITY

Coast Guard

33 CFR Part 165

[Docket Number USCG-2024-0111]

Heavy Weather and Disaster Risk Management; Los Angeles-Long Beach Captain of the Port Zone

AGENCY: Coast Guard, Department of Homeland Security (DHS).

ACTION: Notification of inquiry; request for comments; notice of meeting.

SUMMARY: We are requesting your comments on establishing port conditions and heavy weather safety zones throughout the Los Angeles-Long Beach Captain of the Port Zone. Safety zones and port conditions would establish safe practices in the event natural or manmade disasters affect navigable waterways. We seek your comments on which weather or disaster parameters would necessitate changing port conditions or establishing safety zones based on individual harbors throughout the Los Angeles-Long Beach Captain of the Port Zone (COTP Zone) from San Clemente to Morro Bay. We also plan to host a public meeting on August 12, 2024.

DATES: Your comments and related material must reach the Coast Guard on or before August 31, 2024.

A public meeting will be held 10 a.m. August 12, 2024. See the “Public Participation and Request for Comments” portion of the SUPPLEMENTARY INFORMATION section for further details.

ADDRESSES: You may submit comments identified by docket number USCG-2024-0111 using the Federal portal at https://www.regulations.gov. See the “Public Participation and Request for Comments” portion of the SUPPLEMENTARY INFORMATION section for further instructions on submitting comments.

The public meeting will be held virtually. Please contact the person listed in the FOR FURTHER INFORMATION CONTACT section for call-in information.

FOR FURTHER INFORMATION CONTACT: If you have questions about this notification of inquiry or about the virtual meeting call-in information, call or email LCDR Kevin Kinsella, Waterways Management, U.S. Coast Guard Sector Los Angeles-Long Beach; telephone (310) 357-1603, email D11-SMB-SectorLALB-WWM@uscg.mil.

SUPPLEMENTARY INFORMATION:

I. Table of Abbreviations

CFR Code of Federal Regulations

DHS Department of Homeland Security

U.S.C. United States Code

II. Background and Purpose

Southern California has the potential to be affected by hurricanes, tropical storms, and other natural disasters on a yearly basis, especially between the months of June and November. The Captain of the Port (COTP) Los Angeles-Long Beach proposes establishing safety zones to provide for the safety of life during and after such storms. In August of 2023, heavy weather from Tropical Storm Hilary was expected to make landfall along the coast of the Los Angeles-Long Beach COTP Zone producing 35 or higher knot winds. At the time there were no established heavy weather procedures for the COTP Zone and the COTP implemented necessary measures derived from other related plans and procedures.

The purpose of this notification of inquiry is to solicit public input to help the Coast Guard prepare to protect mariners, port infrastructure, and the environment during and after extreme weather and other natural disasters. We seek your comments on which weather or disaster parameters would necessitate changing port conditions or establishing safety zones based on individual harbors throughout the Los Angeles-Long Beach Captain of the Port Zone (COTP Zone) from San Clemente to Morro Bay. After considering the comments from this notification and public meeting, the Coast Guard will publish a notice of proposed rulemaking with opportunity for additional comments if we determine that there is a need to pursue a rulemaking.

III. Information Requested

The Coast Guard requests comments on the following questions:

1. Do you agree or disagree with the need for establishing safety measures with regards to heavy weather and disasters on the navigable waters throughout the Los Angeles-Long Beach COTP Zone? If so or if not, what is your reason?

2. What weather parameters do you think specific harbors should limit or control vessel traffic movement? (Example: Port Condition WHISKEY means a condition set by the COTP when weather advisories indicate sustained gale force winds (39-54 mph/34-47 knots) from a tropical or hurricane force storm are predicted to make landfall at the port within 72 hours.)

3. What control measures do you think should be in place for the corresponding port conditions? (Example: Port Condition WHISKEY. All vessel and port facilities must exercise due diligence in preparation for potential storm impacts. Ports and waterfront facilities must begin removing all debris and securing potential flying hazards. Oceangoing vessels 500 gross tons (GT) and above must make plans to depart no later than the setting of Port Condition Yankee unless authorized by the COTP. Vessels wishing to remain in port are required to submit a Notice of Intent to Remain in Port to the COTP prior to setting Port Condition X-Ray.)

IV. Public Participation and Request for Comments

We encourage you to submit comments in response to this notification of inquiry through the Federal Decision Making portal at https://www.regulations.gov. To do so, go to https://www.regulations.gov, type USCG-2024-0111 in the search box and click “Search.” Next, look for this document in the Search Results column, and click on it. Then click on the Comment option. In your submission, please include the docket number for this notification of inquiry and provide a reason for each suggestion or recommendation. If your material cannot be submitted using https://www.regulations.gov, contact the person in the FOR FURTHER INFORMATION CONTACT section of this document for alternate instructions.

Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

We plan to hold one public meeting virtually. The public meeting will take place at 10 a.m. on August 12, 2024. For information on facilities or services for individuals with disabilities or to request special assistance at the public meeting, contact the person named in the FOR FURTHER INFORMATION CONTACT section, above.

This document is issued under authority of 5 U.S.C. 552(a).

Dated: July 26, 2024.
S.L. Crecy,
Captain, U.S. Coast Guard,Captain of the Port Sector Los Angeles-Long Beach.

[FR Doc. 2024-16846 Filed 7-30-24; 8:45 am]

BILLING CODE 9110-04-P